DEPARTMENT OF HEALTH AND HUMAN SERVICES

National Toxicology Program (NTP); Liaison and Scientific Review Office (LSRO); Meeting of the NTP Board of Scientific Counselors

AGENCY: National Institute of Environmental Health Sciences (NIEHS), National Institutes of Health (NIH), HHS.

ACTION: Announcement of a meeting and request for comments.

SUMMARY: Pursuant to Public Law 92-463, notice is hereby given of a meeting of the National Toxicology Program (NTP) Board of Scientific Counselors. The NTP Board of Scientific Counselors (NTP Board) is composed of scientists from the public and private sectors and provides primary scientific oversight to the Director for the NTP and evaluates the scientific merit of the NTP's intramural and collaborative programs.

DATES: The NTP Board meeting will be held on June 23, 2005. In order to facilitate planning for this meeting, persons wishing to make an oral presentation are asked to notify the Executive Secretary for the NTP Board by June 13, 2005 (see FOR FURTHER INFORMATION CONTACT below). Written comments should also be received by June 13, 2005, to enable review by the NTP Board and NIEHS/NTP staff prior to the meeting.

ADDRESSES: The NTP Board meeting will be held in the Rodbell Auditorium, Rall Building at the National Institute of Environmental Health Sciences, 111 T.W. Alexander Drive, Research Triangle Park, NC 27709. A copy of the preliminary agenda, committee roster, and any additional information, when available, will be posted on the NTP Web site (http://ntp.niehs.nih.gov/ select “Advisory Boards and Committees”) and provided upon request from the NTP (see FOR FURTHER INFORMATION CONTACT below).

FOR FURTHER INFORMATION CONTACT: Public comments and any other correspondence should be submitted to Dr. Barbara Shane, Executive Secretary for the NTP Board (NTP Liaison and Scientific Review Office, NIEHS, P.O. Box 12233, MD A3-01, Research Triangle Park, NC 27709; telephone: 919-541-4253, fax: 919-541-0295; or e-mail: shane@niehs.nih.gov).

SUPPLEMENTARY INFORMATION: Primary agenda topics include: (1) An update of NTP activities including identification of two newly formed working groups of the NTP Board, the Nanotechnology Working Group (NWG) and the High Throughput Screening Working Group (HTSWG), (2) a summary of the June 16-17, 2005 workshop on “Animal Models for the NTP Rodent Cancer Bioassay: Strains and Stocks—Should We Switch?” (see http://ntp.niehs.nih.gov/ select “Meetings and Workshops”), (3) testing recommendations for substances nominated to the NTP for study (see http://ntp.niehs.nih.gov/ select “Nominations to the Testing Program”), (4) a report from the NTP Board's Technical Reports Review Subcommittee for the meeting held on December 9, 2004 (see http://ntp.niehs.nih.gov/ select “Advisory Boards and Committees”), (5) implications of Office of Management and Budget peer review guidelines (Federal Register, Volume 70, Number 10, pages 2664-2677) for the NTP, and (6) a process to review NTP Briefs on reproductive hazards prepared by the NTP Center for the Evaluation of Risks to Human Reproduction. Time is allotted during the meeting for the public to present comment to the NTP Board and NTP staff on these agenda topics. Please note that this meeting provides a second opportunity for the public to provide comment on testing recommendations for substances nominated to the NTP. Comments submitted to the NTP in response to the May 5, 2005 Federal Register notice on this topic (Federal Register, Volume 70, Number 86, pages 23877-23880) will be considered at the Board meeting and do not need to be resubmitted.

Preliminary Agenda

NTP Board of Scientific Counselors—June 23, 2005. National Institute of Environmental Health Sciences Rodbell Auditorium, Rall Building 111 T.W. Alexander Drive Research Triangle Park, NC 27709; (A photo ID is required to access the NIEHS campus).

8:30 a.m.

• Call to Order and Introductions

• Welcome and Remarks from the National Institute of Environmental Health Sciences (NIEHS) and the National Toxicology Program (NTP)

• Update on NTP Activities

—Public Comment

• Report on the Workshop “Animal Models for the NTP Rodent Cancer Bioassay: Strains and Stocks—Should We Switch?”

• NTP Study Nominations and Recommendations

—Public Comment

12:30 p.m.

Lunch Break

1:30 p.m.

• NTP Board of Scientific Counselors Technical Reports Review Subcommittee

—Public Comment

• Office of Management and Budget Peer Review Guidelines: Implications for the NTP

—Public Comment

• Process for Peer Review of NTP Briefs from the Center for the Evaluation of Risks to Human Reproduction

—Public Comment

5 p.m.

Adjourn

Attendance and Registration

The meeting is scheduled for June 23, 2005, from 8:30 a.m. to adjournment and is open to the public with attendance limited only by the space available. Individuals who plan to attend are encouraged to register online at the NTP Web site by June 13, 2005, to facilitate access to the NIEHS campus. Please note that a photo ID is required to access the NIEHS campus. The NTP is making plans to videocast the meeting through the Internet at http://www.niehs.nih.gov/external/video.htm. Persons needing special assistance, such as sign language interpretation, or other reasonable accommodation in order to attend, are asked to notify the Executive Secretary for the NTP Board at least 7 business days in advance of the meeting (see FOR FURTHER INFORMATION CONTACT above).

Availability of Meeting Materials

A copy of the preliminary agenda, committee roster, and any additional information, when available, will be posted on the NTP Web site or may be requested in hardcopy from the NTP Executive Secretary for the (see FOR FURTHER INFORMATION CONTACT above). Following the meeting, summary minutes will be prepared and made available on the NTP Web site.

Request for Comments

Public input at this meeting is invited and time is set aside for the presentation of public comments on any agenda topic. Each organization is allowed one time slot per agenda topic. At least 7 minutes will be allotted to each speaker, and if time permits, may be extended to 10 minutes. Registration for oral comments will also be available on-site, although time allowed for presentation by on-site registrants may be less than that for pre-registered speakers and will be determined by the number of persons who register at the meeting.

Persons registering to make oral comments are asked, if possible, to send a copy of their statement to the Executive Secretary for the NTP Board (see FOR FURTHER INFORMATION CONTACT above) by June 13, 2005, to enable review by the NTP Board and NIEHS/NTP staff prior to the meeting. Written statements can supplement and may expand the oral presentation. If registering on-site and reading from written text, please bring 40 copies of the statement for distribution to the NTP Board and NIEHS/NTP staff and to supplement the record. Written comments received in response to this notice will be posted on the NTP Web site. Persons submitting written comments should include their name, affiliation, mailing address, phone, fax, e-mail, and sponsoring organization (if any) with the document.

Background Information on the NTP Board of Scientific Counselors

The NTP Board is a technical advisory body comprised of scientists from the public and private sectors who provide primary scientific oversight to the overall program and its centers. Specifically, the NTP Board advises the NTP on matters of scientific program content, both present and future, and conducts periodic review of the program for the purposes of determining and advising on the scientific merit of its activities and their overall scientific quality. Its members are selected from recognized authorities knowledgeable in fields, such as toxicology, pharmacology, pathology, biochemistry, epidemiology, risk assessment, carcinogenesis, mutagenesis, molecular biology, behavioral toxicology and neurotoxicology, immunotoxicology, reproductive toxicology or teratology, and biostatistics. The NTP strives for equitable geographic distribution and minority and female representation on the NTP Board. Its members are invited to serve overlapping terms of up to four years. NTP Board meetings are held annually or biannually.

Dated: May 4, 2005.
Samuel H. Wilson,
Deputy Director, National Toxicology Program.

[FR Doc. 05-9625 Filed 5-13-05; 8:45 am]

BILLING CODE 4140-01-P